DEPARTMENT OF DEFENSE

Office of the Secretary

Membership of the Performance Review Board

AGENCY: Missile Defense Agency (MDA), DoD.

ACTION: Notice.

SUMMARY: This notice announces the appointment of the members of the Performance Review Board (PRB) of the Missile Defense Agency (MDA). The publication of PRB membership is required by 5 U.S.C. 4314(C)(4).

DATES: Effective September 3, 2010.

FOR FURTHER INFORMATION CONTACT: Jovey Martir, MDA SES Program Management, Missile Defense Agency, Arlington, Virginia, (703) 693-1568.

SUPPLEMENTARY INFORMATION: The Performance Review Board (PRB) provides fair and impartial review of Senior Executive Service performance appraisals and makes recommendations regarding performance ratings and performance scores to the Director, MDA.

In accordance with 5 U.S.C. 4314(C)(4), the following executives are appointed to the Missile Defense Agency PRB:

RDML Randall M. Hendrickson, USN (Chair),

RADM Joseph A. Horn, USN,

Brig Gen Terrence A. Feehan, USAF,

Mr. David Altwegg,

Ms. Nancy Morgan,

Mr. Richard Matlock.

Executives listed will serve a one-year term, effective September 3, 2010.

Dated: September 24, 2010.
Mitchell S. Bryman,
Alternate OSD Federal Register Liaison Officer, Department of Defense.

[FR Doc. 2010-24432 Filed 9-28-10; 8:45 am]

BILLING CODE 5001-06-P